DEPARTMENT OF DEFENSE

Department of the Army

[Docket ID: USA-2020-HQ-0006]

Submission for OMB Review; Comment Request

AGENCY: U.S. Army Corps of Engineers (USACE), Department of the Army, Department of Defense (DoD).

ACTION: 30-Day information collection notice.

SUMMARY: DoD has submitted to OMB for clearance the following proposal for collection of information under the provisions of the Paperwork Reduction Act.

DATES: Consideration will be given to all comments received by December 14, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION:

Title; Associated Form; and OMB Number: Wetland Determination Automated Data Sheets and Jurisdictional Determination Forms; Eng Form 6116 (1-9); OMB Control Number 0710-XXXX.

Type of Request: New.

Number of Respondents: 33,279.

Responses per Respondent: 1.

Annual Responses: 33,279.

Average Burden per Response: 63.03 minutes.

Annual Burden Hours: 34,960.

Needs and Uses: In an effort to address regional wetland characteristics and improve the accuracy and efficiency of wetland delineation procedures, the USACE Research and Development Center (ERDC) developed ten regional supplements to the USACE manual, the most recent of which were issued in 2006. In developing the regional supplements, the USACE recognized that a single national manual is unable to consider regional differences that are important to the identification and functioning of wetlands. The wetland indicators and guidance provided in the 10 regional supplements are designed to be used in combination with the USACE manual to identify wetland waters of the United States. These forms are most often completed by USACE Project Managers or environmental consultants, but may also be completed by applicants themselves. The Automated Wetland Determination Sheets (ADSs) in this collection package streamline the information collection process by incorporating reference material and analytical processes directly into the form, which is provided as a Microsoft Excel document rather than the PDF form included in the regional supplements. The ADSs also automatically complete data analysis using inputted information, saving users time and effort and reducing the likelihood of human error. Applicants for USACE permits are generally required to submit JDs as part of their permit application or in support of the permit evaluation process. If wetlands are present, the USACE generally requires that JDs include adequately documented wetland data sheets in order for the JD to be considered technically adequate. The ADSs are formatted such that they may be readily converted to Portable Document Format (PDF) for inclusion as part of the applicant's JD report.

Jurisdictional Determination Forms are tools used by the USACE to help implement Section 404 of the Clean Water Act (CWA) and Sections 9 and 10 of the Rivers and Harbors Act of 1899 (RHA). JDs specify what geographic areas will be treated as subject to regulation by the USACE under one or both statutes. The three types of JDs included in this package are the Approved Jurisdictional Determination (AJD), Dry Land AJD, and Preliminary Jurisdictional Determination (PJD). The AJD form provides an official determination that there are/are not jurisdictional aquatic resources on a parcel based on the jurisdictional requirements, while the Dry Land AJD provides official determination that jurisdictional aquatic resources are absent. The PJD form is used to determine whether aquatic resources that exist on a particular parcel “may be” subject to regulatory jurisdiction.

It should be noted that the forms in this collection package may support associated permit reviews included in collection 0710-0003 which expires on 28 February 2022. Though they are being reviewed to be cleared under a new OMB control number, these forms and data sheets or any variations thereof will be included in the next renewal request for collection 0710-0003, which includes the standard and nationwide permit application forms, and will also include any local district forms in existence when the renewal package is submitted.

Affected Public: Individual or household.

Frequency: Annually.

Respondent's Obligation: Voluntary.

OMB Desk Officer: Mr. Vlad Dorjets.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: October 27, 2020.
Aaron T. Siegel,
Alternate OSD Federal Register Liaison Officer, Department of Defense.

[FR Doc. 2020-25090 Filed 11-12-20; 8:45 am]

BILLING CODE 5001-06-P